NATIONAL AERONAUTICS AND SPACE ADMINISTRATION

[Notice 11-096]

NASA Advisory Council; Audit, Finance and Analysis Committee; Meeting.

AGENCY: National Aeronautics and Space Administration.

ACTION: Notice of meeting.

SUMMARY: In accordance with the Federal Advisory Committee Act, Public Law 92-463, as amended, the National Aeronautics and Space Administration announces a meeting of the Audit, Finance and Analysis Committee of the NASA Advisory Council.

DATES: Tuesday, November 1, 2011, 2 p.m.-5:15 p.m., Local Time.

Wednesday, November 2, 2011, 9 a.m.-9:55 a.m., Local Time.

ADDRESSES: Goddard Space Flight Center (GSFC). Building 1, Room E100H, Greenbelt Road, Greenbelt, MD 20771-0001 (Note that visitors will first need to go to the GSFC Main Gate to gain access.)

FOR FURTHER INFORMATION CONTACT: Ms. Charlene Williams, Office of the Chief Financial Officer, National Aeronautics and Space Administration Headquarters, Washington, DC, 20546, Phone: 202-358-2183.

SUPPLEMENTARY INFORMATION: The agenda for the meeting includes briefings on the following topics:

• Earned Value Management

• Open.gov Initiatives

• NASA Infrastructure

• Utilization of Space Assets

• Space Shuttle Property

The meeting will be open to the public up to the seating capacity of the room. Visitors will need to show valid picture identification such as a driver's license to enter into the NASA Goddard Space Flight Center, and must state that they are attending the NASA Advisory Council (NAC) Audit, Finance, and Analysis Committee meeting in Building 1. All U.S. citizens desiring to attend the NAC Audit, Finance, and Analysis Committee Meeting at the Goddard Space Flight Center (GSFC) must provide their full name, company affiliation (if applicable), to the GSFC Protective Services Division no later than the close of business on October 28, 2011. All non-U.S. citizens must fax a copy of their passport, and print or type their name, current address, citizenship, company affiliation (if applicable) to include address, telephone number, and their title, place of birth, date of birth, U.S. visa information to include type, number, and expiration date, U.S. social Security Number (if applicable), Permanent Resident Alien card number and expiration date (if applicable), and place and date of entry into the U.S., and Passport information to include Country of issue, number, and expiration date to the GSFC Security Office no later than the close of business on October 19, 2011. If the above information is not received by the noted dates, attendees should expect a minimum delay of two (2) hours. All visitors to this meeting will report to the GSFC Main Gate where they will be processed through security prior to entering GSFC. Please provide the appropriate data, via fax 301-286-1230, noting at the top of the page “Public Admission to the NASA Advisory Council Audit, Finance, and Analysis Committee Meeting at GSFC”. For security questions, please call Pam Starling at 301-286-6865 or Pamela.a.starling@nasa.gov or Alternate: Debbie Brasel at 301-286-6876 or Deborah.a.brasel@nasa.gov.

October 12, 2011.
P. Diane Rausch,
Advisory Committee Management Officer, National Aeronautics and Space Administration.

[FR Doc. 2011-26804 Filed 10-14-11; 8:45 am]

BILLING CODE 7510-13-P